DEPARTMENT OF COMMERCE

National Oceanic and Atmospheric Administration

[I.D. 020303E]

Proposed Information Collection; Comment Request; Commercial Harvesters and Recreational Party and Charter Boat Socio-cultural and Economic Data Collection Pilot Study

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 8, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Jonathan O'Neil at 978-281-9257, or to Jon.Oneil@noaa.gov.

SUPPLEMENTARY INFORMATION:

I. Abstract

This is a request to extend Paperwork Reduction Act approval for data collection for the Socio-Economic Pilot Study sponsored by the Atlantic Coast Cooperative Statistics Program (ACCSP) and conducted by the National Marine Fisheries Service. Due to a one year delay in initiating the project, data collection efforts must be extended through June 30th, 2004 to allow for completion of the proposed data collection cycle.

This pilot study is designed to develop socio-cultural and economic information systems for commercial and recreational fisheries. Three specific arenas are being addressed during this study. One is to identify and address potential problems with the mechanics of implementing the system. These include all data gathering, entry, and storage activities as well as the ability to link the data to all other ACCSP data. The second is to carry out a field test of the survey instrument across the different cultural and socio-economic contexts in which the data-gathering system must eventually be implemented. Field testing questions and instruments is standard procedure in preparing for any survey research. The third arena is to utilize the collected information for test runs of several standard economic models.

II. Method of Collection

The study is collecting social, cultural, and economic data from commercial and recreational party/charter fishing vessels' owners, captains, and crew via face-to-face interviews.

III. Data

OMB Number: 0648-0400.

Form Number: None.

Type of Review: Regular submission.

Affected Public: Business or other for-profit organizations, individuals or households.

Estimated Number of Respondents: 323.

Estimated Time Per Response: 15 minutes for an interview; and 15 minutes for a vessel captain/owner to gather business information.

Estimated Total Annual Burden Hours: 793.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2003.
Gwellnar Banks,
Management Analyst, Office of the Chief Information Officer.

[FR Doc. 03-3002 Filed 2-6-03; 8:45 am]

BILLING CODE 3510-22-S